DEPARTMENT OF COMMERCE

National Oceanic and Atmospheric Administration

50 CFR Part 660

[Docket No. 160617540-6540-01]

RIN 0648-XE695

Fisheries Off West Coast States; Coastal Pelagic Species Fisheries; Annual Specifications; Correction

AGENCY: National Marine Fisheries Service (NMFS), National Oceanic and Atmospheric Administration (NOAA), Commerce.

ACTION: Proposed rule; correction.

SUMMARY: This document corrects a typographical error in the ADDRESSES section to a proposed rule published on June 23, 2016.

DATES: Comments on the proposed rule must be submitted on or before July 25, 2016.

ADDRESSES: You may submit comments on this document identified by NOAA-NMFS-2016-0048, by any of the following methods:

• Electronic Submissions: Submit all electronic public comments via the Federal e-Rulemaking Portal. Go to www.regulations.gov/#!docketDetail;D=NOAA-NMFS-2016-0048, click the “Comment Now!” icon, complete the required fields, and enter or attach your comments.

• Mail: Submit written comments to William W. Stelle, Jr., Regional Administrator, West Coast Region, NMFS, 7600 Sand Point Way NE., Seattle, WA 98115-0070; Attn: Joshua Lindsay.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Copies of the report “Pacific Mackerel (Scomber japonicus) Stock Assessment for USA Management in the 2015-2016 Fishing Year” may be obtained from the West Coast Region (see ADDRESSES).

FOR FURTHER INFORMATION CONTACT: Joshua Lindsay, West Coast Region, NMFS, (562) 980-4034, Joshua.Lindsay@noaa.gov.

SUPPLEMENTARY INFORMATION:

Need for Correction

In the ADDRESSES section of a proposed rule (81 FR 40844, June 23, 2016) on page 40845, in the first column, NMFS used an incorrect year, “2015” rather than “2016”, in the document identifier and Federal e-Rulemaking Portal hyperlink. The ADDRESSES section has been corrected in this document.

Authority: 16 U.S.C. 1801 et seq.

Dated: July 14, 2016.
Samuel D. Rauch III,
Deputy Assistant Administrator for Regulatory Programs, National Marine Fisheries Service.

[FR Doc. 2016-17130 Filed 7-19-16; 8:45 am]

BILLING CODE 3510-22-P